DEPARTMENT OF HEALTH AND HUMAN SERVICES

National Institutes of Health

National Institute of General Medical Sciences; Cancellation of Meeting

Notice is hereby given of the cancellation of the National Institute of General Medical Sciences Special Emphasis Panel, Review of the Centers of Biomedical Research Excellence (COBRE) Phase 1, July 17, 2025, 10:00 a.m. to July 18, 2025, 3:00 p.m., National Institute of General Medical Sciences, Natcher Building, 45 Center Drive, Bethesda, Maryland, 20892 which was published in the Federal Register on April 3, 2025, FR Doc. 2025-05723, 90 FR 14654.

This meeting has been canceled as a result of its transfer from the National Institute of General Medical Sciences (NIGMS) to the Center for Scientific Review (CSR).

Dated: June 10, 2025.
Bruce A. George,
Program Analyst, Office of Federal Advisory Committee Policy.

[FR Doc. 2025-10780 Filed 6-12-25; 8:45 am]

BILLING CODE 4140-01-P